DEPARTMENT OF THE INTERIOR

National Park Service

[NPS-NER-ACAD-19391; PS.SACAD0001.00.1]

Boundary Revision of Acadia National Park

AGENCY: National Park Service, Interior.

ACTION: Notification of Boundary Revision.

SUMMARY: Notice is hereby given that, pursuant to appropriate authorities, the boundary of Acadia National Park in the State of Maine is modified to include approximately 1,441 acres of adjacent land. Following this boundary revision, the property will be donated to the United States and managed as a part of the park.

DATES: The effective date of this boundary revision is November 17, 2015.

ADDRESSES: The map depicting this boundary revision is available for inspection at the following locations: National Park Service, Land Resources Program Center, Northeast Region, New England Office, 115 John Street, 5th Floor, Lowell, MA 01852, and National Park Service, Department of the Interior, 1849 C Street NW., Washington, DC 20240.

FOR FURTHER INFORMATION CONTACT: Deputy Realty Officer, Rachel McManus, National Park Service, Land Resources Program, Northeast Region, 115 John Street, 5th Floor, Lowell, MA 01852, telephone 978-970-5260.

SUPPLEMENTARY INFORMATION: The House Committee on Natural Resources and the Senate Committee on Energy and Resources have been notified of this boundary revision. The boundary revision is depicted on Map No. 123/129102 and dated July 10, 2015. This boundary revision and subsequent donation will contribute to, and is necessary for, the proper preservation, protection and interpretation of the important ecological, scenic, cultural, recreational, and shorefront resources of Acadia National Park and the scenic Schoodic Peninsula.

Dated: September 23, 2015.
Jonathan Meade,
Deputy Regional Director, Northeast Region.

[FR Doc. 2015-29329 Filed 11-16-15; 8:45 am]

BILLING CODE 4310-WV-P